DEPARTMENT OF ENERGY

Federal Energy Regulatory Commission

Combined Notice of Filings #1

Take notice that the Commission received the following electric rate filings:

Docket Numbers: ER17-706-005.

Applicants: GridLiance West LLC.

Description: Compliance filing: GWL Compliance Filing WS 12 to be effective 9/14/2017.

Filed Date: 8/23/18.

Accession Number: 20180823-5117.

Comments Due: 5 p.m. ET 9/4/18.

Docket Numbers: ER18-1788-000.

Applicants: MATL LLP.

Description: Response of MATL LLP to July 24, 2018 letter requesting additional information.

Filed Date: 8/21/18.

Accession Number: 20180821-5125.

Comments Due: 5 p.m. ET 9/4/18.

Docket Numbers: ER18-2206-001.

Applicants: GridLiance West LLC.

Description: Tariff Amendment: GWL Name Change WS 12 Amendment Filing to be effective 8/13/2018.

Filed Date: 8/23/18.

Accession Number: 20180823-5120.

Comments Due: 5 p.m. ET 9/4/18.

Docket Numbers: ER18-2288-000.

Applicants: Southern California Edison Company.

Description: § 205(d) Rate Filing: Amended Service Agreements City of Victorville Foxborough & SCLA Nos. 218 & 230 to be effective 9/1/2018.

Filed Date: 8/23/18.

Accession Number: 20180823-5130.

Comments Due: 5 p.m. ET 9/13/18.

Docket Numbers: ER18-2289-000.

Applicants: PJM Interconnection, L.L.C.

Description: § 205(d) Rate Filing: Financial Transmission Rights Liquidation Revisions to be effective 8/24/2018.

Filed Date: 8/23/18.

Accession Number: 20180823-5131.

Comments Due: 5 p.m. ET 9/13/18.

Docket Numbers: ER18-2290-000.

Applicants: Northeastern Power Company.

Description: Tariff Cancellation: Notice of Cancellation to be effective 11/27/2018.

Filed Date: 8/24/18.

Accession Number: 20180824-5016.

Comments Due: 5 p.m. ET 9/14/18.

Docket Numbers: ER18-2291-000.

Applicants: Northeastern Power Company.

Description: Tariff Cancellation: Notice of Cancellation tariff 124 to be effective 11/27/2018.

Filed Date: 8/24/18.

Accession Number: 20180824-5021.

Comments Due: 5 p.m. ET 9/14/18.

Docket Numbers: ER18-2292-000.

Applicants: Northeastern Power Company.

Description: Tariff Cancellation: Notice of Cancellation 874 to be effective 11/27/2018.

Filed Date: 8/24/18.

Accession Number: 20180824-5022.

Comments Due: 5 p.m. ET 9/14/18.

Docket Numbers: ER18-2293-000.

Applicants: ISO New England Inc., New England Power Pool Participants Committee.

Description: § 205(d) Rate Filing: Changes to ISO New England Financial Assurance Policy to be effective 9/17/2019.

Filed Date: 8/24/18.

Accession Number: 20180824-5071.

Comments Due: 5 p.m. ET 9/14/18.

Docket Numbers: ER18-2294-000.

Applicants: Public Service Company of New Hampshire.

Description: § 205(d) Rate Filing: Amoskeag Station—Interconnection Agreement to be effective 8/26/2018.

Filed Date: 8/24/18.

Accession Number: 20180824-5096.

Comments Due: 5 p.m. ET 9/14/18.

Docket Numbers: ER18-2295-000.

Applicants: Public Service Company of New Hampshire.

Description: § 205(d) Rate Filing: Ayers Island Station—Interconnection Agreement to be effective 8/26/2018.

Filed Date: 8/24/18.

Accession Number: 20180824-5098.

Comments Due: 5 p.m. ET 9/14/18.

Docket Numbers: ER18-2296-000.

Applicants: Public Service Company of New Hampshire.

Description: § 205(d) Rate Filing: Canaan Station—Interconnection Agreement to be effective 8/26/2018.

Filed Date: 8/24/18.

Accession Number: 20180824-5100.

Comments Due: 5 p.m. ET 9/14/18.

Docket Numbers: ER18-2297-000.

Applicants: Public Service Company of New Hampshire.

Description: § 205(d) Rate Filing: Eastman Falls Station—Interconnection Agreement to be effective 8/26/2018.

Filed Date: 8/24/18.

Accession Number: 20180824-5102.

Comments Due: 5 p.m. ET 9/14/18.

Docket Numbers: ER18-2298-000.

Applicants: Public Service Company of New Hampshire.

Description: § 205(d) Rate Filing: Garvins Falls/Hooksett Station—Interconnection Agreement to be effective 8/26/2018.

Filed Date: 8/24/18.

Accession Number: 20180824-5104.

Comments Due: 5 p.m. ET 9/14/18.

Docket Numbers: ER18-2299-000.

Applicants: Public Service Company of New Hampshire.

Description: § 205(d) Rate Filing: Gorham Station—Interconnection Agreement to be effective 8/26/2018.

Filed Date: 8/24/18.

Accession Number: 20180824-5106.

Comments Due: 5 p.m. ET 9/14/18.

Docket Numbers: ER18-2300-000.

Applicants: Public Service Company of New Hampshire.

Description: § 205(d) Rate Filing: Jackman Station—Interconnection Agreement to be effective 8/26/2018.

Filed Date: 8/24/18.

Accession Number: 20180824-5108.

Comments Due: 5 p.m. ET 9/14/18.

Docket Numbers: ER18-2301-000.

Applicants: Public Service Company of New Hampshire.

Description: § 205(d) Rate Filing: Smith Station—Interconnection Agreement to be effective 8/26/2018.

Filed Date: 8/24/18.

Accession Number: 20180824-5110.

Comments Due: 5 p.m. ET 9/14/18.

Docket Numbers: ER18-2302-000.

Applicants: The United Illuminating Company.

Description: § 205(d) Rate Filing: Localized Costs Sharing Agreement No. 18 to be effective 1/1/2018.

Filed Date: 8/24/18.

Accession Number: 20180824-5127.

Comments Due: 5 p.m. ET 9/14/18.

Docket Numbers: ER18-2303-000.

Applicants: Adams Wind Farm, LLC.

Description: Baseline eTariff Filing: MBR Tariff Filing of Adams Wind Farm LLC to be effective 10/24/2018.

Filed Date: 8/24/18.

Accession Number: 20180824-5161.

Comments Due: 5 p.m. ET 9/14/18.

Docket Numbers: ER18-2304-000.

Applicants: PacifiCorp.

Description: § 205(d) Rate Filing: BPA Hermiston Interchange Move Agmt to be effective 8/25/2018.

Filed Date: 8/24/18.

Accession Number: 20180824-5162.

Comments Due: 5 p.m. ET 9/14/18.

Docket Numbers: ER18-2305-000.

Applicants: Bobilli BSS, LLC.

Description: Baseline eTariff Filing: MBR Tariff Filing of Bobilli BSS, LLC to be effective 10/24/2018.

Filed Date: 8/24/18.

Accession Number: 20180824-5165.

Comments Due: 5 p.m. ET 9/14/18.

Docket Numbers: ER18-2306-000.

Applicants: Garwind, LLC.

Description: Baseline eTariff Filing: MBR Tariff Filing of Garwind, LLC to be effective 10/24/2018.

Filed Date: 8/24/18.

Accession Number: 20180824-5168.

Comments Due: 5 p.m. ET 9/14/18.

Docket Numbers: ER18-2307-000.

Applicants: Appalachian Power Company, PJM Interconnection, L.L.C.

Description: § 205(d) Rate Filing: Appalachian Power submits revised ILDSA, Service Agreement No. 1252 to be effective 8/1/2018.

Filed Date: 8/24/18.

Accession Number: 20180824-5171.

Comments Due: 5 p.m. ET 9/14/18.

Take notice that the Commission received the following electric securities filings:

Docket Numbers: ES18-45-000.

Applicants: Allegheny Generating Company.

Description: Supplement to July 6, 2018 Application for Authorization Under Section 204(a) of the Federal Power Act to Issue Debt, et al. of Allegheny Generating Company.

Filed Date: 8/23/18.

Accession Number: 20180823-5160.

Comments Due: 5 p.m. ET 9/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2018.
Nathaniel J. Davis, Sr.,
Deputy Secretary.

[FR Doc. 2018-18956 Filed 8-30-18; 8:45 am]

BILLING CODE 6717-01-P